DEPARTMENT OF AGRICULTURE

Farm Service Agency

[Docket ID FSA-2020-0003]

Information Collection Requests; Farm Programs: Disaster Assistance-General (0560-0170), Transfer of Records Between Counties (0560-0253) and Customer Data Worksheet Request for Business Partner Record (0560-0265)

AGENCY: Farm Service Agency, USDA.

ACTION: Notice; request for comments.

SUMMARY: In accordance with the Paperwork Reduction Act (PRA) of 1995, the Farm Service Agency (FSA) is requesting comments from all interested individuals and organizations on the three Farm Programs' information collection requests. The 3 collection requests in the Farm Programs are: Disaster Assistance-General (0560-0170), Transfer of Records between Counties (0560-0253) and Customer Data Worksheet Request for Business Partner Record (0560-0265). In the Disaster Assistance-General, the information collection is needed to identify disaster areas and establish eligibility for both primary disaster counties and those counties contiguous to such disaster counties for assistance from FSA. This assistance includes FSA emergency loans which are available to eligible and qualified farmers and ranchers. In the Customer Data Worksheet Request for Business Partner Record, FSA is using the collected information in support of documenting critical producer data (for example, customer name, current mailing address, tax identification number) made at the request of the producer to obtain, correct or update their information. In the Transfer of Records Between Counties, FSA is using the collected information to approve or disapprove the transfer of farm records from one FSA county office to another.

DATES: We will consider comments that we receive by June 8, 2020.

ADDRESSES: We invite you to submit comments on this notice. In your comments, please include date, volume, and page number of this issue of the Federal Register. You may submit comments by the following method: Federal eRulemaking Portal; Go to http://www.regulations.gov and search for Docket ID FSA-2020-0003.

You may also send comments to the Desk Officer for Agriculture, Office of the Information and Regulatory Affairs, Office of Management and Budget, Washington, DC 20503. Comments will be available for public inspection online at http://www.regulations.gov.

FOR FURTHER INFORMATION CONTACT: For specific questions related to the collection activities or to obtain a copy of the information collection request: For the Disaster Assistance, please contact Helen Mathew, (202) 720-6834; helen.mathew@usda.gov; for the Customer Data Worksheet Request for Business Partner Record Change, please contact Paul Hanson, 202-304-7932; paul.hanson@usda.gov and for the Transfers of Records between Counties, please contact Melonie Sullivan, 202-690-61, melonie.sullivan@usda.gov.

SUPPLEMENTARY INFORMATION:

Title: Disaster Assistance-General (7 CFR PART 1945-A).

OMB Control Number: 0560-0170.

Expiration Date: September 30, 2020.

Type of Request: Extension with a revision.

Abstract: The information collection is necessary for FSA to effectively administer the regulations related to identifying those disaster areas that are eligible for the purpose of making emergency loans. This program is available to qualified and eligible farmers and ranchers who have suffered weather-related physical or production losses or both in such areas. Before emergency loans can become available, the information needs to be collected to determine if the disaster areas meet the criteria of having a qualifying loss in order to be considered as an eligible county.

The number of responses increased to 820 which increased the burden hours to 412 due to the additional Disaster Designation requests.

For the following estimated total annual burden on respondents, the formula used to calculate the total burden hour is the estimated average time per responses hours multiplied by the estimated total annual responses.

Estimate of Average Time to Respond: Public reporting burden for the information collection is estimated to average 0.477 hours per response.

Type of Respondents: Individuals or households, businesses or other for-profit farms.

Estimated Annual Number of Respondents: 1312.

Estimated Number of Reponses per Respondent: 1.

Estimated Total Annual Responses: 1312.

Estimated Average Time per Response: 0.477 hours.

Estimated Total Annual Burden on Respondents: 626.

Title: Customer Data Worksheet for Business Partner Record Change.

OMB Control Number: 0560-0265.

Expiration Date: October 31, 2020.

Type of Request: Extension with a revision.

Abstract: The information collection is necessary to effectively monitor critical producer data (for example, customer name, current mailing address and tax identification number) made at the request of the producer to provide, correct or update their information. The form AD-2047, Customer Data Worksheet Request for Business Partner Record, is used to collect the information from the producer to input or make changes to the information. The critical producer data are also being used to update existing producer record data and document when and who initiates and changes the record.

FSA, Natural Resource Conservation Service (NRCS) and other USDA Agencies use the Business Partner database to maintain and manage their respective customer data. The necessity to monitor critical producer data in the Business Partner database was a direct result of the OMB Circular A-123 Remediation/Corrective Action Plan for County Office Operations which requires effective internal controls to be in place for Federal programs. FSA team was established and reviewed and documented key controls related to all material producer accounts. FSA also included the analysis on a review of record.

The number of respondents increased by 52,848 to account for additional customers due to additional USDA agencies. The average time per response changed from 10 minutes to 3 minutes for the form of AD-2047 that decreased the burden hours by 4,189 in the request since the last OMB approval.

For the following estimated total annual burden on respondents, the formula used to calculate the total burden hours is the estimated average time per responses multiplied by the estimated total annual of responses.

Estimate of Average Time to Respond: Public reporting burden for collecting information under this notice is estimated to average 0.05 hours per response, including the time for reviewing instructions, searching existing data sources, gathering and maintaining the data needed, and completing and reviewing the collection of information.

Type of Respondents: FSA, NRCS, AMS, and RD customers currently residing in the Business Partner database.

Estimated Number of Respondents: 109,774.

Estimated Average Number of Responses per Respondent: 1.

Estimated Total Annual Responses: 109,774.

Estimated Average Time per Response: 0.05.

Estimated Total Annual Burden on Respondents: 5,489 hours.

Title: Transfer of Records Between Counties.

OMB Control Number: 0560-253.

Expiration Date: October 31, 2020.

Type of Request: Extension with a revision.

Abstract: Farm owners or operators may request to transfer farm records between FSA county offices under certain circumstances, which may include:

• A change has occurred in the operation of the land; or

• there has been a change that would cause the receiving county office to be more accessible, including, but not limited to, the construction of a new highway, relocation of the county office building site; or

• when an FSA county office closes.

FSA County Committees from both the transferring and receiving counties must approve or disapprove all proposed farm record transfers. If the FSA County Committee is not able to approve the request based on one of the criteria in 7 CFR 718.8(e), then the State Committee would need to submit an exception request to the Deputy Administrator for Farm Programs. The burden hours decreased by 21,382 due to the removal of travel times from the request.

For the following estimated total annual burden on respondents, the formula used to calculate the total burden hour is the estimated average time per responses hours multiplied by the estimated total annual responses.

Estimate of Average Time to Respond: Public reporting burden for collecting information under this notice is estimated to average 0.16 hours per response, including the time for reviewing instructions, searching existing data sources, gathering and maintaining the data needed, and completing and reviewing the collection of information.

Type of Respondents: Owners and operators.

Estimated Number of Respondents: 21,240.

Estimated Average Number of Responses per Respondent: 1.

Estimated Total Annual Responses: 21,240.

Estimated Average Time per Response: 0.16.

Estimated Total Annual Burden on Respondents: 3,398 hours.

Requesting Comments

FSA is requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

Richard Fordyce,
Administrator, Farm Service Agency.

[FR Doc. 2020-07423 Filed 4-8-20; 8:45 am]

BILLING CODE 3410-05-P